EXPORT-IMPORT BANK

Economic Impact Policy

This notice is to inform the public that the Export-Import Bank of the United States has received an application to guarantee $15 million in commercial bank financing for the export of approximately $90 million in U.S. equipment and services for the construction of a new steel processing mill in Spain. This project is not associated with an increase in raw steel production capacity. The U.S. exports will enable the facility to produce approximately 750,000 metric tons of discrete steel plate and 250,000 metric tons of steel coil per year. Initial production at this facility is expected to commence in 2009.

Available information indicates that the steel plate will be consumed in France, Germany, Greece, Italy, Portugal and Spain while the steel coil will be consumed solely in Spain. Interested parties may submit comments on this transaction by e-mail to economic.impact@exim.gov or by mail to 811 Vermont Avenue, NW., Room 1238, Washington, DC 20571, within 14 days of the date this notice appears in the Federal Register.

Helene S. Walsh,
Director, Policy Oversight and Review.

[FR Doc. E7-12358 Filed 6-25-07; 8:45 am]

BILLING CODE 6690-01-P